DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Limits of Acceptable Change Study surveys in the Northeast Reserves and Culebra Island, Puerto Rico.

OMB Control Number: 0648-xxxx.

Form Number(s): None.

Type of Request: Regular (request for a new information collection).

Number of Respondents: 4,273.

Average Hours per Response: Commercial fishers and water operators, 30 minutes; recreational boaters and visitors, 10 minutes.

Burden Hours: 777.

Needs and Uses: The Coral Reef Conservation Program (CRCP), developed under the authority of the Coral Reef Conservation Act of 2000, is responsible for programs intended to enhance the conservation of coral reefs. We intend to use the information collected through this instrument for conducting a characterization project utilizing a limits of acceptable change (LAC) framework that encompasses the Puerto Rico Northeast Marine Corridor (NMC) as a continuous management area, addressing the following subjects across the area and within individual natural reserves to create the information base required to promote effective management: Biophysical conditions, social conditions, stakeholder identification, stakeholder uses and use patterns, stakeholder knowledge, attitudes, and beliefs, and stakeholder and resource use conflicts. The study will build on past work conducted with stakeholders on natural resources and social indicators in the region, developing a social conditions baseline. Social conditions will be characterized via a series of stakeholder participation protocols, which will result in stakeholder identification, use and use patterns, knowledge, attitudes, and belief, and use conflicts. It will engage the four, main NMC stakeholders: Commercial fishers; commercial water operators; recreational boaters, and visitors. All commercial fishers and commercial water operators in the region will be surveyed with an in-person questionnaire. Recreational boaters will be reached by sending out an internet/email survey questionnaire sent to all vessel registrants. Visitors in the NMC will be surveyed using an intercept survey administered twice a month at a ferry location and via self-administered surveys disseminated by commercial water operators. It is expected that these multi-pronged approaches will provide the information necessary to complete a stakeholder characterization for the NMC that can be applied to evaluate LAC conditions and trends.

Affected Public: Business or other for profit organizations; individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: September 20, 2018.
Sarah Brabson,
NOAA PRA Clearance Officer.

[FR Doc. 2018-20851 Filed 9-25-18; 8:45 am]

BILLING CODE 3510-JS-P